DEPARTMENT OF EDUCATION

[Docket No.: ED-2025-SCC-0008]

Agency Information Collection Activities; Comment Request; 21st Century Community Learning Centers Annual Performance Report

AGENCY: Office of Elementary and Secondary Education (OESE), Department of Education (ED).

ACTION: Notice.

SUMMARY: In accordance with the Paperwork Reduction Act (PRA) of 1995, the Department is proposing a reinstatement with changes of a previously approved information collection request (ICR).

DATES: Interested persons are invited to submit comments on or before July 7, 2025.

ADDRESSES: To access and review all the documents related to the information collection listed in this notice, please use http://www.regulations.gov by searching the Docket ID number ED-2025-SCC-0008. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to Patrick Rooney, U.S. Department of Education, 400 Maryland Ave. SW, LBJ, Room 4B113, Washington, DC 20202-1200.

FOR FURTHER INFORMATION CONTACT: For specific questions related to collection activities, please contact Patrick Rooney, (202) 219-1662.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: 21st Century Community Learning Centers Annual Performance Report.

OMB Control Number: 1810-0668.

Type of Review: Reinstatement with change of a previously approved collection.

Respondents/Affected Public: State, Local, and Tribal Governments.

Total Estimated Number of Annual Responses: 1,324.

Total Estimated Number of Annual Burden Hours: 38,264.

Abstract: The purpose of the 21st Century Community Learning Centers (21st CCLC) program, as authorized under Title IV, Part B, of the Elementary and Secondary Education Act, as amended by the Every Student Succeeds Act (ESSA) (20 U.S.C. 7171-7176) is to create community learning centers that provide academic enrichment opportunities for children, particularly students who attend high poverty and low-performing schools, to meet State and local student standards in core academic subjects, to offer students a broad array of enrichment activities that can complement their regular academic programs, and to offer literacy and other educational services to the families of participating children. Present in all 50 states, the District of Columbia, Puerto Rico, U.S. Virgin Islands, and the Bureau of Indian Education, academic enrichment and youth development programs are designed to enhance participants' well-being and academic success. The Department of Education (ED) is requesting authorization for an extension to collect data for 21st CCLC programs. The core purpose is to collect information on the performance indicators associated with the 21st CCLC program to report to Congress annually on the implementation and progress of 21st CCLC projects. All elements collected serve to meet the reporting requirements of the GPRAs. These metrics delivered in the form of an Annual Performance Report (APR) are the primary way the federal government determines the success and progress of the 21st CCLC program based on the statutory requirements.

Ross Santy,
Chief Data Officer, Office of Planning, Evaluation and Policy Development.

[FR Doc. 2025-08071 Filed 5-7-25; 8:45 am]

BILLING CODE 4000-01-P